DEPARTMENT OF COMMERCE

Foreign-Trade Zones Board

[S-32-2013]

Approval of Subzone Status; Teva Pharmaceuticals USA, Inc.; North Wales, Chalfont, Kutztown and Sellersville, Pennsylvania

On March 18, 2013, the Executive Secretary of the Foreign-Trade Zones (FTZ) Board docketed an application submitted by the Philadelphia Regional Port Authority, grantee of FTZ 35, requesting subzone status subject to the existing activation limit of FTZ 35, on behalf of Teva Pharmaceuticals USA, Inc., in North Wales, Chalfont, Kutztown and Sellersville, Pennsylvania.

The application was processed in accordance with the FTZ Act and Regulations, including notice in the Federal Register inviting public comment (78 FR 17634-17635, 3-22-2013). The FTZ staff examiner reviewed the application and determined that it meets the criteria for approval. Pursuant to the authority delegated to the FTZ Board Executive Secretary (15 CFR 400.36(f)), the application to establish Subzone 38F is approved, subject to the FTZ Act and the Board's regulations, including Section 400.13 and further subject to FTZ 35's 2,000-acre activation limit.

Dated: May 23, 2013.
Andrew McGilvray,
Executive Secretary.

[FR Doc. 2013-12854 Filed 5-29-13; 8:45 am]

BILLING CODE 3510-DS-P